DEPARTMENT OF COMMERCE

National Institute of Standards and Technology

Intent To Terminate Selected National Voluntary Laboratory Accreditation Program (NVLAP) Services

AGENCY: National Institute of Standards and Technology, Department of Commerce.

ACTION: Notice; request for comments.

SUMMARY: The Chief of the National Institute of Standards and Technology's (NIST) National Voluntary Laboratory Accreditation Program (NVLAP) may terminate a specific Laboratory Accreditation Program (LAP) when it is determined that a need no longer exists to accredit laboratories for the services covered under the scope of the LAP. The Chemical Calibration: Certifiers of Spectrophotometric NIST Traceable Reference Materials (NTRMs) Program is comprised of laboratories that design, prepare, characterize, certify and distribute NTRM filter reference materials. Based on a lack of participation, the Chief of NVLAP has preliminarily determined that a need no longer exists to accredit laboratories for the services covered under the scope of this program and is proposing termination of the LAP. NIST is requesting written comment on the proposed termination.

DATES: Comments on the proposed termination must be received no later than April 13, 2018.

ADDRESSES: Comments on the proposed terminations must be submitted to: Chief, National Voluntary Laboratory Accreditation Program, National Institute of Standards and Technology, 100 Bureau Drive, Stop 2140, Gaithersburg, MD 20899-2140, or by email at nvlap@nist.gov.

FOR FURTHER INFORMATION CONTACT: Dana Leaman, Chief, National Voluntary Laboratory Accreditation Program, (301) 975-4016 or dana.leaman@nist.gov.

SUPPLEMENTARY INFORMATION: NIST administers NVLAP under regulations found in 15 CFR part 285. NVLAP provides an unbiased third-party evaluation and recognition of laboratory performance, as well as expert technical assistance to upgrade that performance, by accrediting calibration and testing laboratories found competent to perform specific calibrations or tests. NVLAP is comprised of a set of LAPS which are established on the basis of requests and demonstrated need. Each LAP includes specific test and/or calibration standards and related methods and protocols assembled to satisfy the unique needs for accreditation in the field of testing, field of calibration, product, or service.

Under 15 CFR 285.5, the Chief of NVLAP may terminate a specific LAP when it is determined that a need no longer exists to accredit laboratories for the services covered under the scope of the LAP. The Chemical Calibration: Certifiers of Spectrophotometric NTRMs Program is comprised of laboratories that design, prepare, characterize, certify and distribute NTRM filter reference materials. A review of the Chemical Calibration: Certifiers of Spectrophotometric NTRMs Program revealed that there are zero (0) laboratories enrolled in the program. Based on the lack of participation, the Chief of NVLAP has preliminarily determined that a need no longer exists to accredit laboratories for the services covered under the scope of the Chemical Calibration: Certifiers of Spectrophotometric NTRMs Program and proposes termination of the LAP.

After the comment period, the Chief of NVLAP shall determine if there is public support for the continuation of the LAP. If public comments support the continuation of the LAP, the Chief of NVLAP shall publish a Federal Register notice announcing its continuation. If public support does not exist for continuation, a notice of termination shall be published in the Federal Register within 90 days after the close of the comment period. If the LAP is terminated, NVLAP shall no longer grant or renew accreditations under the terminated program following the effective date of termination.

Kevin Kimball,
NIST Chief of Staff.

[FR Doc. 2018-02746 Filed 2-9-18; 8:45 am]

BILLING CODE 3510-13-P